DEPARTMENT OF ENERGY

Federal Energy Regulatory Commission

Combined Notice of Filings

Take notice that the Commission has received the following Natural Gas & Oil Pipeline Rate and Refund Report filings:

Filings Instituting Proceedings

Docket Numbers: PR23-40-000.

Applicants: Regency Intrastate Gas LP.

Description: § 284.123 Rate Filing: Regency Intrastate Gas LP Operating Statement 4-1-2023 to be effective 4/1/2023.

Filed Date: 3/30/23.

Accession Number: 20230330-5177.

Comment Date: 5 p.m. ET 4/20/23.

Docket Numbers: PR23-41-000.

Applicants: Columbia Gas of Ohio, Inc.

Description: § 284.123 Rate Filing: COH Rates effective March 1 2023 to be effective 3/1/2023.

Filed Date: 3/31/23.

Accession Number: 20230331-5255.

Comment Date: 5 p.m. ET 4/21/23.

Docket Numbers: RP23-619-000.

Applicants: Tennessee Gas Pipeline Company, L.L.C.

Description: § 4(d) Rate Filing: Volume No. 2—XTO Energy Inc. & GDF Suez to be effective 4/1/2023.

Filed Date: 3/30/23.

Accession Number: 20230330-5154.

Comment Date: 5 p.m. ET 4/11/23.

Docket Numbers: RP23-620-000.

Applicants: Elba Express Company, L.L.C.

Description: Compliance filing: Annual Interruptible Revenue Crediting Report 2023 to be effective N/A.

Filed Date: 3/30/23.

Accession Number: 20230330-5173.

Comment Date: 5 p.m. ET 4/11/23.

Docket Numbers: RP23-621-000.

Applicants: Northern Border Pipeline Company.

Description: § 4(d) Rate Filing: Compressor Usage Surcharge 2023 to be effective 5/1/2023.

Filed Date: 3/30/23.

Accession Number: 20230330-5176.

Comment Date: 5 p.m. ET 4/11/23.

Docket Numbers: RP23-622-000.

Applicants: Kern River Gas Transmission Company.

Description: Kern River Gas Transmission Company submits Annual Gas Compressor Fuel Report for 2022.

Filed Date: 3/30/23.

Accession Number: 20230330-5215.

Comment Date: 5 p.m. ET 4/11/23.

Docket Numbers: RP23-624-000.

Applicants: East Tennessee Natural Gas, LLC.

Description: § 4(d) Rate Filing: 2023 ETNG Fuel Filing to be effective 5/1/2023.

Filed Date: 3/31/23.

Accession Number: 20230331-5020.

Comment Date: 5 p.m. ET 4/12/23.

Docket Numbers: RP23-625-000.

Applicants: East Tennessee Natural Gas, LLC.

Description: Compliance filing: 2021-2022 ETNG Cashout Report to be effective N/A.

Filed Date: 3/31/23.

Accession Number: 20230331-5021.

Comment Date: 5 p.m. ET 4/12/23.

Docket Numbers: RP23-626-000.

Applicants: Eastern Gas Transmission and Storage, Inc.

Description: § 4(d) Rate Filing: EGTS—March 31, 2023 MCS Negotiated Rate Agreements to be effective 4/1/2023.

Filed Date: 3/31/23.

Accession Number: 20230331-5025.

Comment Date: 5 p.m. ET 4/12/23.

Docket Numbers: RP23-627-000.

Applicants: Eastern Gas Transmission and Storage, Inc.

Description: § 4(d) Rate Filing: EGTS—Interim Fuel Retention Percentages to be effective 5/1/2023.

Filed Date: 3/31/23.

Accession Number: 20230331-5030.

Comment Date: 5 p.m. ET 4/12/23.

Docket Numbers: RP23-628-000.

Applicants: Alliance Pipeline L.P.

Description: § 4(d) Rate Filing: Negotiated Rates—Various Apr 1 2023 Releases to be effective 4/1/2023.

Filed Date: 3/31/23.

Accession Number: 20230331-5031.

Comment Date: 5 p.m. ET 4/12/23.

Docket Numbers: RP23-629-000.

Applicants: MountainWest Pipeline, LLC.

Description: § 4(d) Rate Filing: Contact Information Update for 2023 to be effective 5/1/2023.

Filed Date: 3/31/23.

Accession Number: 20230331-5034.

Comment Date: 5 p.m. ET 4/12/23.

Docket Numbers: RP23-630-000.

Applicants: MountainWest Overthrust Pipeline, LLC.

Description: § 4(d) Rate Filing: Contact Information Update for 2023 to be effective 5/1/2023.

Filed Date: 3/31/23.

Accession Number: 20230331-5035.

Comment Date: 5 p.m. ET 4/12/23.

Docket Numbers: RP23-631-000.

Applicants: White River Hub, LLC.

Description: § 4(d) Rate Filing: Contact Information Update for 2023 to be effective 5/1/2023.

Filed Date: 3/31/23.

Accession Number: 20230331-5036.

Comment Date: 5 p.m. ET 4/12/23.

Docket Numbers: RP23-632-000.

Applicants: Pine Needle LNG Company, LLC.

Description: § 4(d) Rate Filing: 2023 Annual Fuel and Electric Power Tracker Filing to be effective 5/1/2023.

Filed Date: 3/31/23.

Accession Number: 20230331-5040.

Comment Date: 5 p.m. ET 4/12/23.

Docket Numbers: RP23-633-000.

Applicants: Panhandle Eastern Pipe Line Company, LP.

Description: Compliance filing: Flow Through of Penalty Revenues Report filed 3-31-23 to be effective N/A.

Filed Date: 3/31/23.

Accession Number: 20230331-5041.

Comment Date: 5 p.m. ET 4/12/23.

Docket Numbers: RP23-634-000.

Applicants: Panhandle Eastern Pipe Line Company, LP.

Description: Compliance filing: Flow Through of Cash-Out Revenues filed on 3-31-23 to be effective N/A.

Filed Date: 3/31/23.

Accession Number: 20230331-5043.

Comment Date: 5 p.m. ET 4/12/23.

Docket Numbers: RP23-635-000.

Applicants: Enable Gas Transmission, LLC.

Description: Compliance filing: 2023 Annual IT Revenue Crediting Filing to be effective N/A.

Filed Date: 3/31/23.

Accession Number: 20230331-5046.

Comment Date: 5 p.m. ET 4/12/23.

Docket Numbers: RP23-636-000.

Applicants: Enable Gas Transmission, LLC.

Description: § 4(d) Rate Filing: Fuel Tracker Filing—Effective May 1, 2023 to be effective 5/1/2023.

Filed Date: 3/31/23.

Accession Number: 20230331-5047.

Comment Date: 5 p.m. ET 4/12/23.

Docket Numbers: RP23-637-000.

Applicants: Gulf South Pipeline Company, LLC.

Description: § 4(d) Rate Filing: Cap Rel Neg Rate Agmts (FPL 48381, 41618, 41619 to various eff 4-1-2023) to be effective 4/1/2023.

Filed Date: 3/31/23.

Accession Number: 20230331-5048.

Comment Date: 5 p.m. ET 4/12/23.

Docket Numbers: RP23-638-000.

Applicants: Enable Mississippi River Transmission, LLC.

Description: Compliance filing: 2023 Annual SCT Revenue Crediting Filing to be effective N/A.

Filed Date: 3/31/23.

Accession Number: 20230331-5049.

Comment Date: 5 p.m. ET 4/12/23.

Docket Numbers: RP23-639-000.

Applicants: Gulf South Pipeline Company, LLC.

Description: § 4(d) Rate Filing: Non-conforming Agreements Filing (NNS-SCO) to be effective 4/1/2023.

Filed Date: 3/31/23.

Accession Number: 20230331-5050.

Comment Date: 5 p.m. ET 4/12/23.

Docket Numbers: RP23-640-000.

Applicants: Gulf South Pipeline Company, LLC.

Description: § 4(d) Rate Filing: Cap Rel Neg Rate Agmts (JERA 46434, 46435 to EDF 56120, 56117) to be effective 4/1/2023.

Filed Date: 3/31/23.

Accession Number: 20230331-5051.

Comment Date: 5 p.m. ET 4/12/23.

Docket Numbers: RP23-641-000.

Applicants: Gulf South Pipeline Company, LLC.

Description: § 4(d) Rate Filing: Cap Rel Neg Rate Agmts (BP 51411 to BP 56164, 56165) to be effective 4/1/2023.

Filed Date: 3/31/23.

Accession Number: 20230331-5054.

Comment Date: 5 p.m. ET 4/12/23.

Docket Numbers: RP23-642-000.

Applicants: Gulf South Pipeline Company, LLC.

Description: § 4(d) Rate Filing: Cap Rel Neg Rate Agmt (BP 55005 to BP 56137) to be effective 4/1/2023.

Filed Date: 3/31/23.

Accession Number: 20230331-5055.

Comment Date: 5 p.m. ET 4/12/23.

Docket Numbers: RP23-643-000.

Applicants: Gulf South Pipeline Company, LLC.

Description: § 4(d) Rate Filing: Fuel Neg Rate Agmt (PowerSouth 54058) to be effective 4/1/2023.

Filed Date: 3/31/23.

Accession Number: 20230331-5056.

Comment Date: 5 p.m. ET 4/12/23.

Docket Numbers: RP23-644-000.

Applicants: Gulf South Pipeline Company, LLC.

Description: § 4(d) Rate Filing: Cap Rel Neg Rate Agmts (WSGP to Tenaska eff 4-1-23) to be effective 4/1/2023.

Filed Date: 3/31/23.

Accession Number: 20230331-5057.

Comment Date: 5 p.m. ET 4/12/23.

Docket Numbers: RP23-645-000.

Applicants: MarkWest New Mexico, L.L.C.

Description: § 4(d) Rate Filing: Housekeeping Filing to be effective 5/1/2023.

Filed Date: 3/31/23.

Accession Number: 20230331-5058.

Comment Date: 5 p.m. ET 4/12/23.

Docket Numbers: RP23-646-000.

Applicants: Columbia Gas Transmission, LLC.

Description: § 4(d) Rate Filing: TCO Negotiated Rate Agreements Eff. 4.1.23 to be effective 4/1/2023.

Filed Date: 3/31/23.

Accession Number: 20230331-5074.

Comment Date: 5 p.m. ET 4/12/23.

Docket Numbers: RP23-647-000.

Applicants: Destin Pipeline Company, L.L.C.

Description: § 4(d) Rate Filing: Destin Pipeline Negotiated Rate Agreement Filing to be effective 4/1/2023.

Filed Date: 3/31/23.

Accession Number: 20230331-5105.

Comment Date: 5 p.m. ET 4/12/23.

Docket Numbers: RP23-648-000.

Applicants: Tennessee Gas Pipeline Company, L.L.C.

Description: § 4(d) Rate Filing: Volume No. 2—Mex Gas and Morgan Stanley to be effective 4/1/2023.

Filed Date: 3/31/23.

Accession Number: 20230331-5173.

Comment Date: 5 p.m. ET 4/12/23.

Docket Numbers: RP23-649-000.

Applicants: Great Lakes Gas Transmission Limited Partnership.

Description: § 4(d) Rate Filing: GLGT April 1 Negotiated Rate Agreements to be effective 3/31/2023.

Filed Date: 3/31/23.

Accession Number: 20230331-5204.

Comment Date: 5 p.m. ET 4/12/23.

Docket Numbers: RP23-650-000.

Applicants: Transcontinental Gas Pipe Line Company, LLC.

Description: § 4(d) Rate Filing: Negotiated Rates—Cherokee AGL—Replacement Shippers—Apr 2023 to be effective 4/1/2023.

Filed Date: 3/31/23.

Accession Number: 20230331-5213.

Comment Date: 5 p.m. ET 4/12/23.

Docket Numbers: RP23-651-000.

Applicants: LA Storage, LLC.

Description: § 4(d) Rate Filing: Filing of Negotiated Rate Conforming IW Agreement 3.31.23 to be effective 4/1/2023.

Filed Date: 3/31/23.

Accession Number: 20230331-5221.

Comment Date: 5 p.m. ET 4/12/23.

Docket Numbers: RP23-652-000.

Applicants: Kinder Morgan Louisiana Pipeline LLC.

Description: § 4(d) Rate Filing: Out-of-Cycle Fuel Adjustment Effective May 1, 2023 to be effective 5/1/2023.

Filed Date: 3/31/23.

Accession Number: 20230331-5224.

Comment Date: 5 p.m. ET 4/12/23.

Docket Numbers: RP23-653-000.

Applicants: Rockies Express Pipeline LLC.

Description: § 4(d) Rate Filing: REX 2023-03-31 Negotiated Rate Agreement and Amendments to be effective 4/1/2023.

Filed Date: 3/31/23.

Accession Number: 20230331-5239.

Comment Date: 5 p.m. ET 4/12/23.

Docket Numbers: RP23-654-000.

Applicants: Ruby Pipeline, L.L.C.

Description: § 4(d) Rate Filing: RP 2023-03-31 Negotiated Rate Agreements to be effective 5/1/2023.

Filed Date: 3/31/23.

Accession Number: 20230331-5245.

Comment Date: 5 p.m. ET 4/12/23.

Docket Numbers: RP23-655-000.

Applicants: Trailblazer Pipeline Company LLC.

Description: § 4(d) Rate Filing: TPC 2023-03-31 Fuel and L&U Reimbursement and Power Cost Tracker to be effective 5/1/2023.

Filed Date: 3/31/23.

Accession Number: 20230331-5249.

Comment Date: 5 p.m. ET 4/12/23.

Docket Numbers: RP23-656-000.

Applicants: ANR Pipeline Company.

Description: § 4(d) Rate Filing: ANR—Vitol 138868 Negotiated Rate Agreement to be effective 4/1/2023.

Filed Date: 3/31/23.

Accession Number: 20230331-5259.

Comment Date: 5 p.m. ET 4/12/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP23-584-001.

Applicants: Trailblazer Pipeline Company LLC.

Description: Compliance filing: TPC Annual Incidental Purchases and Sales Report Amendment to be effective N/A.

Filed Date: 3/30/23.

Accession Number: 20230330-5156.

Comment Date: 5 p.m. ET 4/11/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 31, 2023.
Debbie-Anne A. Reese,
Deputy Secretary.

[FR Doc. 2023-07220 Filed 4-5-23; 8:45 am]

BILLING CODE 6717-01-P